DEPARTMENT OF TRANSPORTATION

Federal Aviation Administration

14 CFR Part 39

[Docket No. FAA-2010-1297; Directorate Identifier 2010-CE-068-AD; Amendment 39-16569; AD 2010-26-54]

RIN 2120-AA64

Airworthiness Directives; Cessna Aircraft Company (Cessna) (Type Certificate A00003SE Previously Held by Columbia Aircraft Manufacturing (Previously The Lancair Company)) Models LC41-550FG and LC42-550FG Airplanes

AGENCY: Federal Aviation Administration (FAA), DOT.

ACTION: Final rule; request for comments.

SUMMARY: We are adopting a new airworthiness directive (AD) for the products listed above. This emergency AD was sent previously to all known U.S. owners and operators of these airplanes. This AD requires obtaining written approval from the Manager, Wichita Aircraft Certification Office (ACO), to operate the airplane. This written approval must clearly state that operation is approved per Emergency AD 2010-26-54. This AD was prompted by a Cessna Model LC41-550FG airplane that suffered a significant structural failure in the wing during a production acceptance flight test. We are issuing this AD to prevent catastrophic failure of the wing due to disbonding of the wing skin from the wing spar.

DATES: This AD is effective January 10, 2011 to all persons except those persons to whom it was made immediately effective by Emergency AD 2010-26-54, issued on December 17, 2010, which contained the requirements of this amendment.

We must receive comments on this AD by February 24, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

Examining the AD Docket

You may examine the AD docket on the Internet at http://www.regulations.gov; or in person at the Docket Operations Office between 9 a.m. and 5 p.m., Monday through Friday, except Federal holidays. The AD docket contains this AD, the regulatory evaluation, any comments received, and other information. The street address for the Docket Operations Office (phone: 800-647-5527) is in the ADDRESSES section. Comments will be available in the AD docket shortly after receipt.

FOR FURTHER INFORMATION CONTACT: Gary Park, Aerospace Engineer, Wichita ACO, FAA, 1801 Airport Road, Wichita, KS 67209; phone: (316) 946-4123; fax: (316) 946-4107; e-mail: gary.park@faa.gov.

SUPPLEMENTARY INFORMATION:

Discussion

On December 10, 2010, we issued Emergency AD 2010-26-53, which requires obtaining written approval from the Manager, Wichita ACO, to operate the airplane. The written approval must clearly state that operation is approved per Emergency AD 2010-26-53. This action was prompted by a Cessna Model LC41-550FG airplane that suffered a significant structural failure in the wing during a production acceptance flight test. The wing skin disbonded from the upper forward wing spar. The length of the disbond was approximately 7 feet.

Since issuing AD 2010-26-53, we determined the need to increase the serial numbers in the Applicability section and to correct a serial number in the Applicability section. We issued Emergency AD 2010-26-54, dated December 17, 2010, which retains the actions of the previous AD, adds serial numbers to the Applicability section, and corrects a serial number in the Applicability section.

This condition, if not corrected, could result in catastrophic failure of the wing due to disbonding of the wing skin from the wing spar.

FAA's Determination

We are issuing this AD because we evaluated all the relevant information and determined the unsafe condition described previously is likely to exist or develop in other products of the same type design.

AD Requirements

This AD requires obtaining written approval from the Manager, Wichita ACO, to operate the airplane. The written approval must clearly state that operation is approved per Emergency AD 2010-26-54.

Interim Action

We consider this AD interim action.

FAA's Determination of the Effective Date

An unsafe condition exists that requires the immediate adoption of this AD. The FAA has found that the risk to the flying public justifies waiving notice and comment prior to adoption of this rule because disbonding of the wing skin from the wing spar could result in catastrophic failure of the wing. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2010-1297 and Directorate Identifier 2010-CE-068-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 13 airplanes of U.S. registry.

There are no labor or parts costs associated with this AD action.

Authority for This Rulemaking

Title 49 of the United States Code specifies the FAA's authority to issue rules on aviation safety. Subtitle I, section 106, describes the authority of the FAA Administrator. Subtitle VII: Aviation Programs describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2010-26-54 Cessna Aircraft Company (Type Certificate A00003SE previously held by Columbia Aircraft Manufacturing (previously The Lancair Company)): Amendment 39-16569; Docket No. FAA-2010-1297; Directorate Identifier 2010-CE-068-AD.

Effective Date

(a) This AD is effective January 10, 2011 to all persons except those persons to whom it was made immediately effective by Emergency AD 2010-26-54, issued on December 17, 2010, which contained the requirements of this amendment.

Affected ADs

(b) None.

Applicability

(c) This AD applies to the following Cessna Aircraft Company (Cessna) (Type Certificate A00003SE previously held by Columbia Aircraft Manufacturing (previously The Lancair Company)) airplanes certified in any category, as identified in table 1 of this AD:

Table 1—Applicability
Model | Serial Nos.
LC41-550FG | 41028, 41705, 411114, 411160, 411161, 411162, 411163, 411164, 411165, 411167, 411170, and 411171.
LC42-550FG | 42517.

Subject

(d) Joint Aircraft System Component (JASC)/Air Transport Association (ATA) of America Code 57, Wings.

Unsafe Condition

(e) This AD was prompted by a Cessna Model LC41-550FG airplane that suffered a significant structural failure in the wing during a production acceptance flight test. The wing skin disbonded from the upper forward wing spar. The length of the disbond was approximately 7 feet. We are issuing this AD to prevent catastrophic failure of the wing due to disbonding of the wing skin from the wing spar.

Compliance

(f) Comply with this AD within the compliance times specified, unless already done.

Operation Restriction

(g) As of the effective date of this AD, do not operate the airplane without written approval from the Manager, Wichita Aircraft Certification Office (ACO). This written approval must clearly state that operation is approved per AD 2010-26-54.

Special Flight Permit

(h) A special flight permit requires written approval from the Manager, Wichita ACO. This written approval must clearly state that operation is approved per AD 2010-26-54.

Alternative Methods of Compliance (AMOCs)

(i)(1) The Manager, Wichita ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your Principal Maintenance Inspector or Principal Avionics Inspector, as appropriate, or lacking a principal inspector, your local Flight Standards District Office.

Related Information

(j) For further information about this AD, contact: Gary Park, Aerospace Engineer, Wichita ACO, FAA, 1801 Airport Road, Wichita, KS 67209; phone: (316) 946-4123; fax: (316) 946-4107; e-mail: gary.park@faa.gov.

Issued in Kansas City, Missouri, on December 27, 2010.
Earl Lawrence,
Manager, Small Airplane Directorate, Aircraft Certification Service.

[FR Doc. 2010-33336 Filed 1-7-11; 8:45 am]

BILLING CODE 4910-13-P